DEPARTMENT OF ENERGY

Environmental Management Site-Specific Advisory Board, Northern New Mexico

AGENCY: Department of Energy.

ACTION: Notice of Open Meeting.

SUMMARY: This notice announces a meeting of the Environmental Management Site-Specific Advisory Board (EMSSAB), Northern New Mexico. The Federal Advisory Committee Act (Pub. L. 92-463, 86 Stat. 770) requires that public notice of this meeting be announced in the Federal Register.

DATES: Wednesday, January 25, 2006, 1 p.m.-8:30 p.m.

ADDRESSES: Jemez Complex, Santa Fe Community College, 6401 Richards Avenue, Santa Fe, New Mexico.

FOR FURTHER INFORMATION CONTACT: Menice Santistevan, Northern New Mexico Citizens' Advisory Board, 1660 Old Pecos Trail, Suite B, Santa Fe, NM 87505. Phone (505) 995-0393; Fax (505) 989-1752 or e-mail: msantistevan@doeal.gov.

SUPPLEMENTARY INFORMATION: Purpose of the Board: The purpose of the Board is to make recommendations to DOE in the areas of environmental restoration, waste management, and related activities.

Tentative Agenda

1 p.m. Call to Order by Deputy Designated Federal Officer (DDFO), Christina Houston.

Establishment of a Quorum.

Welcome and Introductions by Chair, J. D. Campbell.

Approval of Agenda.

Approval of Minutes of November 30, 2005 Board Meeting.

1:15 p.m. Board Business.

A. Report from Chair, J. D. Campbell.

B. Report from Department of Energy, DDFO, Christina Houston.

C. Report from Executive Director, Menice B. Santistevan

D. Consideration and Action on Fiscal Year 2006 Northern New Mexico Citizens' Advisory Board Budget.

E. New Business.

2:45 p.m. Break.

3 p.m. Reports.

A. Community Involvement Committee, Grace Perez.

B. Waste Management Committee, Matthew Deller.

C. Environmental Monitoring, Surveillance and Remediation Committee, Chris Timm.

D. Reports from Ex-Officio Members.

U.S. Environmental Protection Agency—Rich Mayer.

U.S. Department of Energy (DOE)—John Ordaz.

University of California/Los Alamos National Laboratory (LANL)—Ken Hargis.

New Mexico Environment Department (NMED)—James Bearzi.

4 p.m. Discussion with Los Alamos Site Office (LASO) Manager, Ed Wilmot.

5 p.m. Dinner Break.

6 p.m. Public Comment.

6:15 p.m. Consideration of Recommendations.

6:30 p.m. Presentation on Environmental Remediation at Los Alamos National Laboratory.

7:30 p.m. Comments from Ex-Officio Members—DOE/LASO, LANL, NMED.

8 p.m. Comments from Board Members.

8:20 p.m. Recap of Meeting: Issuance of Press Releases, Editorials, etc.

8:30 p.m. Adjourn.

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday. Minutes will also be made available by writing or calling Menice Santistevan at the Board's office address or telephone number listed above. Minutes and other Board documents are on the Internet at: http://www.nnmcab.org.

Issued at Washington, DC, on December 19, 2005.
Rachel M. Samuel,
Deputy Advisory Committee Management Officer.

[FR Doc. E5-7788 Filed 12-22-05; 8:45 am]

BILLING CODE 6450-01-P